DEPARTMENT OF ENERGY

Federal Energy Regulatory Commission

Combined Notice of Filings #1

Take notice that the Commission received the following electric corporate filings:

Docket Numbers: EC18-80-000.

Applicants: Bayonne Plant Holding, L.L.C.

Description: Supplement to April 3, 2018 Application of Bayonne Plant Holding, L.L.C. for Approval Under Section 203 of the Federal Power Act and Request for Expedited Action.

Filed Date: 5/8/18.

Accession Number: 20180508-5176.

Comments Due: 5 p.m. ET 5/18/18.

Take notice that the Commission received the following electric rate filings:

Docket Numbers: ER18-1293-001.

Applicants: Midcontinent Independent System Operator, Inc.

Description: Tariff Amendment: 2018-05-08_SA 3106 Dodge County Wind-SMMPA Substitute GIA (J441) to be effective 3/21/2018.

Filed Date: 5/8/18.

Accession Number: 20180508-5128.

Comments Due: 5 p.m. ET 5/29/18.

Docket Numbers: ER18-1549-000.

Applicants: Manifold Energy Inc.

Description: Baseline eTariff Filing: Application_C008940 to be effective 6/11/2018.

Filed Date: 5/8/18.

Accession Number: 20180508-5171.

Comments Due: 5 p.m. ET 5/29/18.

Docket Numbers: ER18-1550-000.

Applicants: Puget Sound Energy, Inc.

Description: Compliance filing: Order 842 Compliance Filing to be effective 5/10/2018.

Filed Date: 5/9/18.

Accession Number: 20180509-5000.

Comments Due: 5 p.m. ET 5/30/18.

Docket Numbers: ER18-1551-000.

Applicants: Duke Energy Florida, LLC.

Description: Notice of Termination of Standard Large Generator Interconnection Agreement (No. TF-183) of Duke Energy Florida, LLC.

Filed Date: 5/7/18.

Accession Number: 20180507-5235.

Comments Due: 5 p.m. ET 5/29/18.

Docket Numbers: ER18-1552-000.

Applicants: MidAmerican Energy Company.

Description: Notice of Termination of Interchange Agreement between MidAmerican Energy Company.

Filed Date: 5/8/18.

Accession Number: 20180508-5173.

Comments Due: 5 p.m. ET 5/29/18.

Docket Numbers: ER18-1553-000.

Applicants: Southwest Power Pool, Inc.

Description: Notice of Cancellation of Amendatory Agreement No. 4 to the Municipal Participation Agreement of Southwest Power Pool, Inc.

Filed Date: 5/8/18.

Accession Number: 20180508-5177.

Comments Due: 5 p.m. ET 5/29/18.

Docket Numbers: ER18-1554-000.

Applicants: PJM Interconnection, L.L.C.

Description: § 205(d) Rate Filing: Original ISA, SA No. 5067; Queue No. AA2-133 to be effective 4/11/2018.

Filed Date: 5/9/18.

Accession Number: 20180509-5051.

Comments Due: 5 p.m. ET 5/30/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 9, 2018.
Nathaniel J. Davis, Sr.,
Deputy Secretary.

[FR Doc. 2018-10288 Filed 5-14-18; 8:45 am]

BILLING CODE 6717-01-P